DEPARTMENT OF COMMERCE

International Trade Administration

[A-475-818]

Certain Pasta From Italy: Notice of Partial Rescission of Antidumping Duty Administrative Review

AGENCY: Enforcement and Compliance, International Trade Administration, Department of Commerce.

DATES: Effective: December 24, 2015.

FOR FURTHER INFORMATION CONTACT: George McMahon or Samuel Brummitt, AD/CVD Operations, Office III, Enforcement and Compliance, International Trade Administration, U.S. Department of Commerce, 14th Street and Constitution Avenue NW., Washington, DC 20230; telephone: (202) 482-1167 or (202) 482-7851, respectively.

SUPPLEMENTARY INFORMATION:

Background

On July 1, 2015, the Department of Commerce (the Department) published a notice of opportunity to request an administrative review of the antidumping duty order on certain pasta from Italy.¹ Pursuant to requests from interested parties, the Department published in the Federal Register the notice of initiation of this antidumping duty administrative review with respect to the following companies for the period July 1, 2014, through June 30, 2015: Agritalia S.r.L. (Agritalia), Atar S.r.L. (Atar), Azienda Agricola Casina Rossa di De Laurentiis Nicola (Azienda), Corticella Molini e Pastifici S.p.A. (Corticella), Delverde Industrie Alimentari S.p.A. (Delverde), Domenico Paone fu Erasmo S.p.A. (Domenico), F. Divella S.p.A. (F. Divella), I Sapori dell'Arca S.r.l. (I Sapori), Industria Alimentare Colavita S.p.A. (Colavita), La Fabbrica della Pasta di Gragnano S.a.s. di Antonio Moccia (La Fabbrica), La Molisana SpA. (La Molisana), La Romagna S.r.l. (La Romagna), Ligouri Pastificio Dal 1820 (Ligouri), Molino e Pastificio Tomasello S.r.L. (Molino), P.A.P SNC DI Pazienza G.B. & C. (P.A.P), PAM S.p.A. (PAM), Pasta Lensi S.r.L. (Pasta Lensi), Pasta Zara S.p.A. (Pasta Zara), Pastificio Andalini S.p.A. (Andalini), Pastificio Bolognese of Angelo R. Dicuonzo (Bolognese), Pastificio Carmine Russo S.p.A. (Carmine), Pastificio DiMartino Gaetano & F. Ili S.r.L. (DiMartino), Pastificio Fabianelli S.p.A. (Fabianelli), Pastificio Felicetti S.r. L. (Felicetti), Pastificio Labor S.r.L. (Labor), Pastificio Riscossa F. Ili Mastromauro S.p.A. (AKA Pastificio Riscossa F. Ili. Mastromauro S.r.L.) (Riscossa), Poiatti S.p.A. (Poiatti), Premiato Pastificio Afreltra S.r.L. (Premiato), Rustichella d'Abruzzo S.p.A. (Rustichella), Ser.com.snc, and Vero Lucano S.r.l. (Vero Lucano).² On October 27, 2015, La Molisana timely withdrew its request for a review.³ On October 30, 2015, Pasta Lensi timely withdrew its request for review.⁴ On November 12, 2015, Andalini timely withdrew its request for review.⁵ On December 1, 2015, Ritrovo, LLC (Ritrovo), an interested party in this review, timely withdrew its request for an administrative review of Azienda, Bolognese, I Sapori, La Romagna, Ser.com.snc, and Vero Lucano.⁶

¹ See Antidumping or Countervailing Duty Order, Finding, or Suspended Investigation; Opportunity To Request Administrative Review, 80 FR 37583 (July 1, 2015).

² See Initiation of Antidumping and Countervailing Duty Administrative Reviews, 80 FR 53106 (September 2, 2015) (Initiation Notice).

³ See Letter from La Molisana to the Department, “Certain Pasta From Italy: A-475-818; Withdrawal of Request for Review,” dated October 27, 2015.

⁴ See Letter from Pasta Lensi to the Department, “Pasta from Italy: Withdrawal of Request for Administrative Review,” dated October 30, 2015.

⁵ See Letter from Andalini to the Department, “Certain Pasta From Italy: Withdrawal of Request for Administrative Review,” dated November 12, 2015.

⁶ See Letter from Ritrovo to the Department, “Withdrawal of Request for Administrative Review: Certain Pasta from Italy,” dated December 1, 2015.

Partial Rescission of the 2014-2015 Administrative Review

Pursuant to 19 CFR 351.213(d)(1), the Secretary will rescind an administrative review, in whole or in part, if the parties that requested a review withdraw the request within 90 days of the date of publication of the notice of initiation of the requested review. Given that all the withdrawal requests cited above were timely, in accordance with 19 CFR 351.213(d)(1), we are rescinding this review of the antidumping duty order on certain pasta from Italy, in part, with respect to Andalini, Azienda, Bolognese, I Sapori, La Molisana, La Romagna, Pasta Lensi, Ser.com.snc, and Vero Lucano. The instant review will continue with respect to Agritalia, Atar, Corticella, Delverde, Domenico, F. Divella, Colavita, La Fabbrica, Ligouri, Molino, P.A.P, PAM, Pasta Zara, Carmine, DiMartino, Fabianelli, Felicetti, Labor, Riscossa, Poiatti, Premiato, and Rustichella.

Assessment

The Department will instruct CBP to assess antidumping duties on all appropriate entries. For the companies for which this review is rescinded, Andalini, Azienda, Bolognese, I Sapori, La Molisana, La Romagna, Pasta Lensi, Ser.com.snc, and Vero Lucano, antidumping duties shall be assessed at rates equal to the cash deposit of estimated antidumping duties required at the time of entry, or withdrawal from warehouse, for consumption, during the period July 1, 2014, through June 30, 2015, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of doubled antidumping duties.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: December 16, 2015.
Christian Marsh,
Deputy Assistant Secretary for Antidumping and Countervailing Duty Operations.

[FR Doc. 2015-32472 Filed 12-23-15; 8:45 am]

BILLING CODE 3510-DS-P